DEPARTMENT OF JUSTICE

Notice of Lodging of Proposed Consent Decree Under the Comprehensive Environmental Response, Compensation, and Liability Act

On May 19, 2022, the Department of Justice lodged a proposed Consent Decree with the United States District Court for the Southern District of Ohio in United States v. Chemical Waste Management, et al., Civil Action No. 3:22-cv-132 (S.D. Ohio).

The United States filed this lawsuit under Section 106, 107, and 113 of the Comprehensive Environmental Response, Compensation, and Liability Act (“CERCLA”), 42 U.S.C. 9607, to recover its past response costs, declaratory judgment, and injunctive relief at the Tremont Barrel Fill Superfund Site in German Township, Ohio (“Site”). The Consent Decree requires Defendants to clean up contamination at the Site, at an estimated cost of $27.7 million. The Consent Decree also requires Defendants to reimburse the United States' past response costs at the Site and compensate the United States for any future oversight costs.

The publication of this notice opens a period for public comment on the Fifth Modification to the Consent Decree. Comments should be addressed to the Assistant Attorney General, Environment and Natural Resources Division, and should refer to United States v. Chemical Waste Management, et al., D.J. Ref. No. 90-11-3-10605/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Fifth Modification to the Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $7.00 (25 cents per page reproduction cost) payable to the United States Treasury.

Patricia Mckenna,
Assistant Section Chief, Environmental Enforcement Section, Environment and Natural Resources Division.

[FR Doc. 2022-11305 Filed 5-25-22; 8:45 am]

BILLING CODE 4410-15-P